PENSION BENEFIT GUARANTY CORPORATION

Submission of Information Collection for OMB Review; Comment Request; Historical Pension Plan Tracing Service Intake Information

AGENCY: Pension Benefit Guaranty Corporation.

ACTION: Notice of request for approval of information collection.

SUMMARY: The Pension Benefit Guaranty Corporation (PBGC) is requesting that the Office of Management and Budget (OMB) approve, under the Paperwork Reduction Act, of a new collection of information. The purpose of the information collection is to obtain information that the Office of the PBGC Participant and Plan Sponsor Advocate requires from the public to conduct its pension plan tracing service. This notice informs the public of PBGC's request and solicits public comment on the collection of information.

DATES: Comments must be submitted on or before October 28, 2024.

ADDRESSES: Written comments and recommendations for the proposed information collection should be sent within 30 days of publication of this notice to www.reginfo.gov/public/do/PRAMain. Find this particular information collection by selecting “Currently under 30-day Review—Open for Public Comments” or by using the search function.

All comments received will be posted without change to PBGC's website, www.pbgc.gov, including any personal information provided. Do not submit comments that include any personally identifiable information or confidential business information.

A copy of the request will be posted on PBGC's website at https://www.pbgc.gov/prac/laws-and-regulation/federal-register-notices-open-for-comment. It may also be obtained without charge by writing to the Disclosure Division (disclosure@pbgc.gov), Office of the General Counsel, Pension Benefit Guaranty Corporation, 445 12th Street SW, Washington, DC 20024-2101; or, calling 202-229-4040 during normal business hours. If you are deaf or hard of hearing, or have a speech disability, please dial 7-1-1 to access telecommunications relay services.

FOR FURTHER INFORMATION CONTACT: Monica O'Donnell (odonnell.monica@pbgc.gov), Attorney, Regulatory Affairs Division, Office of the General Counsel, Pension Benefit Guaranty Corporation, 445 12th Street SW, Washington, DC 20024-2101, 202-229-8706. If you are deaf or hard of hearing, or have a speech disability, please dial 7-1-1 to access telecommunications relay services.

SUPPLEMENTARY INFORMATION: The Office of the PBGC Participant and Plan Sponsor Advocate (OPPSA) acts as a liaison between PBGC, sponsors of defined benefit pension plans insured by PBGC, and participants in pension plans trusteed by PBGC. OPPSA assists participants with searching for historical pension plan information as part of its pension plan tracing service. To conduct the tracing research, OPPSA uses an internal pension plan tracing research dashboard, which displays select data elements from various PBGC systems, including annual premium filing records and case information. The information found through OPPSA's tracing research can help participants locate historical plan information.

To perform the search, OPPSA will request participant contact information and specific plan information. This information includes the participant's name, phone number, email address, and the inquirer's name and relationship to participant if the inquirer it is not the participant; the employer's name and location; the pension plan name; the employer identification number (EIN); the plan number (PN); the years that the participant worked for the employer; whether the person was an hourly, salaried, or part-time employee; and any addition information about the employer or pension plan that would aid in plan tracing, including listing any documents the participant has related to the pension plan. The collection of information is voluntary and minimally burdensome. It will enable OPPSA to more effectively run its pension plan tracing service and to assist participants in locating historical plan information.

On July 22, 2024, PBGC published in the Federal Register (at 89 FR 59172) a notice informing the public of its intent to request approval of this collection of information. No comments were received. PBGC is requesting that OMB approve the collection of information for 3 years. An agency may not conduct or sponsor, and a person is not required to respond to, a collection of information unless it displays a currently valid OMB control number.

PBGC estimates that it will receive intake information from approximately 200 participants annually and that it will take participants 0.5 hours to complete and submit the information. The time needed to provide the information will vary among participants depending on what information they have readily available to them. The total amount of burden associated with this collection of information is estimated to be 100 hours and an estimated $0.

Issued in Washington, DC.
Hilary Duke,
Assistant General Counsel for Regulatory Affairs, Pension Benefit Guaranty Corporation.

[FR Doc. 2024-22110 Filed 9-25-24; 8:45 am]

BILLING CODE 7709-02-P